DEPARTMENT OF TRANSPORTATION

Federal Aviation Administration

14 CFR Part 39

[Docket No. FAA-2026-0019; Project Identifier MCAI-2025-00293-A]

RIN 2120-AA64

Airworthiness Directives; Baykar Piaggio Aerospace S.p.A. (Type Certificate Previously Held by Piaggio Aviation S.p.A.) Airplanes

AGENCY: Federal Aviation Administration (FAA), DOT.

ACTION: Notice of proposed rulemaking (NPRM).

SUMMARY: The FAA proposes to adopt a new airworthiness directive (AD) for certain Baykar Piaggio Aerospace S.p.A. (type certificate previously held by Piaggio Aviation S.p.A.) (Piaggio) Model P-180 airplanes. This proposed AD was prompted by reports of corrosion and cracks affecting the vertical stabilizer. This proposed AD would require repetitive visual and non-destructive testing (NDT) inspections, a one-time NDT inspection of the vertical stabilizer assembly, and, depending on findings, accomplishment of corrective actions. In addition, this AD would provide a terminating action for the repetitive inspections. The FAA is proposing this AD to address the unsafe condition on these products.

DATES: The FAA must receive comments on this NPRM by March 9, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2026-0019; or in person at Docket Operations between 9 a.m. and 5 p.m., Monday through Friday, except Federal holidays. The AD docket contains this NPRM, the mandatory continuing airworthiness information (MCAI), any comments received, and other information. The street address for Docket Operations is listed above.

Material Incorporated by Reference:

• For Piaggio Aerospace material identified in this proposed AD, contact Piaggio, P180 Customer Support, via Pionieri e Aviatori d'Italia, snc—16154 Genoa, Italy; phone: +39 331 679 74 93; email: technicalsupport@piaggioaerospace.it.

• You may view this material at the FAA, Airworthiness Products Section, Operational Safety Branch, 901 Locust, Kansas City, MO 64106. For information on the availability of this material at the FAA, call (817) 222-5110.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Comments Invited

The FAA invites you to send any written relevant data, views, or arguments about this proposal. Send your comments to an address listed under ADDRESSES. Include “Docket No. FAA-2026-0019; Project Identifier MCAI-2025-00293-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Doug Rudolph, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2025-0054, dated March 6, 2025 (EASA AD 2025-0054) (also referred to as the MCAI), to correct an unsafe condition on certain serial-numbered Piaggio Model P-180 Avanti and Avanti II airplanes. The MCAI states that corrosion and cracks affecting the vertical stabilizer were reported on Model P-180 airplanes. To address the unsafe condition, the MCAI requires repetitive visual and NDT inspections and one-time NDT inspections of the parts and structural elements of the vertical stabilizer assembly for evidence of damage to the protective finish, corrosion and cracking and, depending on the findings, repair or replacement of affected parts. The MCAI also provides terminating actions for certain repetitive inspections. This condition, if not addressed, could result in reduced structural integrity of the vertical stabilizer and the rudder with consequent reduced control of the airplane.

You may examine the MCAI in the AD docket at regulations.gov under Docket No. FAA-2026-0019.

Material Incorporated by Reference Under 1 CFR Part 51

The FAA reviewed Piaggio Aerospace Service Bulletin (SB) 80-0493, Revision 0, dated November 21, 2024 (Piaggio SB 80-0493, Rev. 0). This material specifies procedures for repetitive visual and NDT (including high-frequency eddy current (HFEC) and film radiographic (FR/D2) testing) inspections, a one-time NDT inspection, and post-repair instructions for the parts and structural elements of the vertical stabilizer assembly for evidence of damage of the protective finish, corrosion, and cracking, and applicable corrective actions. Corrective actions include, depending on inspection findings, repairing or replacing affected parts or contacting Piaggio to obtain an approved Repair Design Approval Sheet (RDAS), which is terminating action for certain repetitive inspections. This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type design.

Proposed AD Requirements in This NPRM

This proposed AD would require accomplishing the actions specified in the material already described, except as discussed under “Differences Between this Proposed AD and the Referenced Material.”

Differences Between This Proposed AD and the Referenced Material

Step (49) of Piaggio SB 80-0493, Rev. 0, provides instructions to contact Piaggio to obtain an approved RDAS and accomplish that repair accordingly, including post-repair follow-on action(s), as applicable. This proposed AD would instead require contacting either the Manager, International Validation Branch, FAA; EASA; or Piaggio's EASA Design Organization Approval (DOA); for approved repair instructions and, within the compliance time specified therein, accomplish those instructions accordingly, including post-repair follow-on action(s), as applicable. If approved by the DOA, the approval must include the DOA-authorized signature.

Although Piaggio SB 80-0493, Rev. 0, states that certain subsequent inspections are in accordance with the aircraft maintenance manual inspection program chapter 05-20-00, this proposed AD does not require those actions.

Although steps (17), (20), (24), (28), (33), (38), (41), (44), (47), (48), and Note 21 of Piaggio SB 80-0493, Rev. 0, require reporting inspection results to Piaggio, this proposed AD does not require those actions.

Costs of Compliance

The FAA estimates that this AD, if adopted as proposed, would affect 107 airplanes of U.S. registry.

The FAA estimates the following costs to comply with this proposed AD:

Estimated Costs
Action | Labor cost | Parts cost | Cost per product | Cost on U.S. operators
One-time NDT inspection of the vertical stabilizer assembly | Up to 27 work-hours × $85 per hour = $2,295 | $0 | Up to $2,295 | Up to $245,565.
Repetitive visual and NDT inspections of the vertical stabilizer assembly | Up to 40 work-hours × $85 per hour = $3,400 (per inspection) | $0 (per inspection) | Up to $3,400 (per inspection) | Up to $363,800 (per inspection).

The FAA estimates the following costs to do any necessary repairs that would be required based on the results of the proposed inspections. The agency has no way of determining the number of airplanes that might need these repairs:

On-Condition Costs
Action | Labor cost | Parts cost | Cost per product
Repair of parts and structural elements of the vertical stabilizer assembly | Up to 280 work-hours × $85 per hour = $23,800 | Up to $1,000 | Up to $24,800.
Replacement of parts and structural elements of the vertical stabilizer assembly | Up to 160 work-hours × $85 per hour = $13,600 | Up to $10,000 | Up to $23,600.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Baykar Piaggio Aerospace S.p.A. (type certificate previously held by Piaggio Aviation S.p.A.): Docket No. FAA-2026-0019; Project Identifier MCAI-2025-00293-A.

(a) Comments Due Date

The FAA must receive comments on this airworthiness directive (AD) by March 9, 2026.

(b) Affected ADs

None.

(c) Applicability

This AD applies to Baykar Piaggio Aerospace S.p.A. (type certificate previously held by Piaggio Aviation S.p.A.) (Piaggio) Model P-180 airplanes, manufacturer serial numbers 1002, 1004 through 3016, and 3018, certificated in any category.

(d) Subject

Joint Aircraft System Component (JASC) Code 5530, Vertical Stabilizer Structure.

(e) Unsafe Condition

This AD was prompted by reports of corrosion and cracks affecting the vertical stabilizer. The FAA is issuing this AD to address this unsafe condition. The unsafe condition, if not addressed, could result in reduced structural integrity of the vertical stabilizer and the rudder with consequent reduced control of the airplane.

(f) Compliance

Comply with this AD within the compliance times specified, unless already done.

(g) Required Actions

(1) Within the applicable compliance time specified in table 1 to paragraph (g)(1) of this AD and thereafter at intervals not to exceed 660 hours time-in-service (TIS) or 26 months, whichever occurs first, do the applicable repetitive visual and non-destructive testing (NDT) inspections of the parts of the vertical stabilizer assembly for evidence of damage to the protective finish, corrosion, and cracking, in accordance with section 2.B, PART A, items (i) through (vii) as applicable, of Piaggio Aerospace Service Bulletin (SB) 80-0493, Revision 0, dated November 21, 2024 (Piaggio SB 80-0493, Rev. 0). Where Piaggio SB 80-0493, Rev. 0, states that subsequent inspections shall be performed in accordance with the aircraft maintenance manual inspection program chapter 05-20-00, this AD does not require those actions.

Table 1 to Paragraph (g)(1)—Compliance Times
P-180 serial No. | Compliance time (hours TIS or calendar time, whichever occurs first after the effective date of this AD)
1002, 1004 through 3016 | Within 220 hours TIS or 13 months.
3018 | Within 660 hours TIS or 26 months.

(2) Within the applicable compliance time specified in table 1 to paragraph (g)(1) of this AD, do the applicable one-time NDT inspections of the parts of the vertical stabilizer assembly for evidence of damage to the protective finish, corrosion and cracking, in accordance with section 2.B, PART A, items (viii) and (ix), as applicable, of Piaggio SB 80-0493, Rev. 0.

(3) If, during any inspection required by paragraph (g)(1) or (2) of this AD any corrosion or cracking is found, before further flight, accomplish the applicable corrective action(s), including post-repair inspections, in accordance with the instructions of section 2.B, PART B, of Piaggio SB 80-0493, Rev. 0.

(4) Where the Accomplishment Instructions, section 2.B, PART B, step (49) of Piaggio SB 80-0493, Rev. 0, state to contact Piaggio to obtain an approved repair design approval sheet (RDAS) and accomplish that repair accordingly including post-repair follow-on actions(s), as applicable, before further flight, contact either the Manager, International Validation Branch, FAA; European Union Aviation Safety Agency (EASA); or Piaggio's EASA Design Organization Approval (DOA); for approved repair instructions and, within the compliance time specified therein, accomplish those instructions accordingly, including post-repair follow-on action(s), as applicable. If approved by the DOA, the approval must include the DOA-authorized signature.

(h) Terminating Action

Accomplishment of any action identified as “terminating action” for a given inspection in section 2.B, PART B, of Piaggio SB 80-0493, Rev. 0, constitutes terminating action for the repetitive inspections, as applicable, required by paragraph (g)(1) of this AD for that airplane.

(i) No Reporting Requirement

Although certain steps of Piaggio SB 80-0493, Rev. 0, specify to submit inspection findings to the manufacturer, this AD does not include that requirement.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov. Before using any approved AMOC, notify your appropriate principal inspector, or lacking a principal inspector, the manager of the local Flight Standards District Office/certificate holding district office.

(k) Additional Information

For more information about this AD, contact Doug Rudolph, Aviation Safety Engineer, FAA, 1600 Stewart Avenue, Suite 410, Westbury, NY 11590; phone: (816) 329-4059; email: doug.rudolph@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) Piaggio Aerospace Service Bulletin 80-0493, Revision 0, dated November 21, 2024.

(ii) [Reserved]

(3) For Piaggio Aerospace material identified in this AD, contact Baykar Piaggio Aerospace S.p.A., P180 Customer Support, via Pionieri e Aviatori d'Italia, snc—16154 Genoa, Italy; phone: +39 331 679 74 93; email: technicalsupport@piaggioaerospace.it.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on January 16, 2026.
Steven W. Thompson,
Acting Deputy Director, Compliance & Airworthiness Division, Aircraft Certification Service.

[FR Doc. 2026-01048 Filed 1-20-26; 8:45 am]

BILLING CODE 4910-13-P